DEPARTMENT OF HEALTH AND HUMAN SERVICES

National Institutes of Health

National Institute of Diabetes and Digestive and Kidney Diseases; Amended Notice of Meeting

Notice is hereby given of a change in the meeting of the Board of Scientific Counselors, NIDDK, September 18, 2014, 08:00 a.m. to September 19, 2014, 04:20 p.m., National Institutes of Health, Building 5, Room 127, 5 Memorial Drive, Bethesda, MD, 20892 which was published in the Federal Register on August 4, 2014, 79 FR 45202.

This meeting will be open to the public on September 18, 2014, from 8:00 a.m. until 8:20 a.m. The rest of the meeting is closed to the public.

Dated: August 6, 2014.
David Clary,
Program Analyst, Office of Federal Advisory Committee Policy.

[FR Doc. 2014-18989 Filed 8-11-14; 8:45 am]

BILLING CODE 4140-01-P